COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List products and services to be furnished by nonprofit agencies employing persons who are blind or have other severe disabilities.

DATES: Effective Date: November 2, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@AbilityOne.gov.

SUPPLEMENTARY INFORMATION:

Additions

On August 8, 2008, the Committee for Purchase From People Who Are Blind or Severely Disabled published notice (73 FR 46245) of proposed additions to the Procurement List.

[Insert Federal Register Comments Here]

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Coffee, Roasted, 39oz Resealable Pouch

NSN: 8955-01-E60-8859—S & D

NSN: 8955-01-E61-3689—Sara Lee

NSN: 8955-01-E61-3688—Maxwell House

NPA: CW Resources, Inc., New Britain, CT

Contracting Activity: Defense Logistics Agency, Defense Supply Center Philadelphia

Coverage: C-List for the Government requirement of the Defense Supply Center Philadelphia, Philadelphia, PA

Services

Service Type/Location:

Janitorial Services, Marine Corps Base Hawaii, ROICC MCBH BLDG #566, NCIS BLDG #1096, COMPATRECON WING-TWO BLDG #6468, Kaneohe Bay, HI

NAVMAG Lualualei, Basewide, Waianae, HI

NCTAMS, Naval Computer and Telecommunications Area Master, Wahiawa, HI

Kalaeloa Air Station, Basewide, Kalaeloa, HI

Iroquois Point Housing, Basewide, Iroquois Point, HI

NAVMAG West LOCH, Basewide, Waianae, HI

Camp Catlin, Basewide, Kailua, HI

Moanalua Terrace, U.S. Navy Moanalua Terrace, Moana Terrace, HI

Ford Island, Naval Air Station, Ford Island Pearl Harbor, Honolulu, HI

NPA: Opportunities for the Retarded, Inc., Wahiawa, HI

Contracting Activity: Department of the Navy, NAVFAC Engineering Command Hawaii

Kimberly M. Zeich,
Director, Program Operations.

[FR Doc. E8-23318 Filed 10-2-08; 8:45 am]

BILLING CODE 6353-01-P